DEPARTMENT OF ENERGY

Federal Energy Regulatory Commission

Combined Notice of Filings

Take notice that the Commission has received the following Natural Gas Pipeline Rate and Refund Report filings:

Docket Numbers: RP21-170-001.

Applicants: Texas Eastern Transmission, LP.

Description: Tariff Amendment: TETLP ASA DEC 2020 Amendment Filing to be effective 12/1/2020.

Filed Date: 11/20/20.

Accession Number: 20201120-5000.

Comments Due: 5 p.m. ET 12/2/20.

Docket Numbers: RP21-234-000.

Applicants: Texas Eastern Transmission, LP.

Description: § 4(d) Rate Filing: TETLP 2020 ASA Settlement—Compliance Filing to be effective 12/1/2020.

Filed Date: 11/20/20.

Accession Number: 20201120-5018.

Comments Due: 5 p.m. ET 12/2/20.

Docket Numbers: RP21-236-000.

Applicants: Equitrans, L.P.

Description: § 4(d) Rate Filing: Expired Negotiated Rate Agreement—Eclipse Resources Marketing LP to be effective 12/21/2020.

Filed Date: 11/20/20.

Accession Number: 20201120-5041.

Comments Due: 5 p.m. ET 12/2/20.

Docket Numbers: RP21-237-000.

Applicants: Tennessee Gas Pipeline Company, L.L.C.

Description: Compliance filing Cashout Report 2019-2020.

Filed Date: 11/20/20.

Accession Number: 20201120-5055.

Comments Due: 5 p.m. ET 12/2/20.

Docket Numbers: RP21-238-000.

Applicants: Columbia Gas Transmission, LLC.

Description: § 4(d) Rate Filing: SWN Negot. Rate & Non-Conforming Agmt. to be effective 12/1/2020.

Filed Date: 11/20/20.

Accession Number: 20201120-5109.

Comments Due: 5 p.m. ET 12/2/20.

Docket Numbers: RP21-239-000.

Applicants: UGI Mt. Bethel Pipeline Company, LLC.

Description: Annual Report on Operational Sales and Purchases of UGI Mt. Bethel Pipeline, LLC under RP21-239.

Filed Date: 11/20/20.

Accession Number: 20201120-5130.

Comments Due: 5 p.m. ET 12/2/20.

Docket Numbers: RP21-240-000.

Applicants: UGI Sunbury, LLC.

Description: Operational Purchases and Sales Report of UGI Sunbury, LLC under RP21-240.

Filed Date: 11/20/20.

Accession Number: 20201120-5181.

Comments Due: 5 p.m. ET 12/2/20.

Docket Numbers: RP21-241-000.

Applicants: Southern Star Central Gas Pipeline, Inc.

Description: Compliance filing Annual Cash-Out Activity Report 2020.

Filed Date: 11/20/20.

Accession Number: 20201120-5205.

Comments Due: 5 p.m. ET 12/2/20.

Docket Numbers: RP21-231-001.

Applicants: El Paso Natural Gas Company, L.L.C.

Description: Tariff Amendment: Amendment to Negotiated Rate Agreement Update (Pioneer) to be effective 1/1/2021.

Filed Date: 11/23/20.

Accession Number: 20201123-5100.

Comments Due: 5 p.m. ET 12/7/20.

Docket Numbers: RP21-242-000.

Applicants: Wyoming Interstate Company, L.L.C.

Description: § 4(d) Rate Filing: Non-Conforming Agreements Filing (Citadel/Mieco/Spotlight/Tenaska/Williams) to be effective 1/1/2021.

Filed Date: 11/23/20.

Accession Number: 20201123-5033.

Comments Due: 5 p.m. ET 12/7/20.

Docket Numbers: RP21-243-000.

Applicants: National Fuel Gas Supply Corporation.

Description: Compliance filing TSCA—Informational Filing (November 2020).

Filed Date: 11/23/20.

Accession Number: 20201123-5082.

Comments Due: 5 p.m. ET 12/7/20.

Docket Numbers: RP21-245-000.

Applicants: Gas Transmission Northwest LLC.

Description: Annual Fuel Charge Adjustment of Gas Transmission Northwest LLC under RP21-245.

Filed Date: 11/23/20.

Accession Number: 20201123-5199.

Comments Due: 5 p.m. ET 12/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2020.
Nathaniel J. Davis, Sr.,
Deputy Secretary.

[FR Doc. 2020-26444 Filed 11-30-20; 8:45 am]

BILLING CODE 6717-01-P